OFFICE OF PERSONNEL MANAGEMENT

Excepted Service

AGENCY: Office of Personnel Management.

ACTION: Notice.

SUMMARY: This gives notice of positions placed or revoked under Schedule C in the excepted service, as required by Civil Service Rule VI, Exceptions from the Competitive Service.

FOR FURTHER INFORMATION CONTACT: Pam Shivery, Director, Washington Service Center, Employment Service (202) 606-1015.

SUPPLEMENTARY INFORMATION: The Office of Personnel Management published its last monthly notice updating appointing authorities established or revoked under the Excepted Service provisions of 5 CFR 213 July 2, 2001 (66 FR 34964). Individual authorities established or revoked under Schedule C between June 1, 2001, and July 31, 2001, appear in the listing below. Future notices will be published on the fourth Tuesday of each month, or as soon as possible thereafter. A consolidated listing of all authorities as of June 30 will also be published.

Schedule C

The following Schedule C authorities were established during June through July 2001:

Commission on Civil Rights

Special Assistant to the Commissioner. Effective July 23, 2001.

Commodity Futures Trading Commission

Special Assistant to the Commissioner. Effective June 4, 2001.

Department of Agriculture

Special Assistant to the Under Secretary for Natural Resources and Environment. Effective July 31, 2001.

Confidential Assistant to the Under Secretary for Rural Development. Effective July 31, 2001.

Confidential Assistant to the Assistant Secretary for Congressional Relations. Effective July 31, 2001.

Confidential Assistant to the Under Secretary for Food, Nutrition and Consumer Services. Effective July 31, 2001.

Confidential Assistant to the Chief of Staff. Effective July 31, 2001.

Confidential Assistant to the Secretary. Effective July 31, 2001.

Confidential Assistant to the Under Secretary for Marketing and Regulatory Programs. Effective July 31, 2001.

Confidential Assistant to the Director, Office of Communications. Effective July 31, 2001.

Department of Commerce

Special Assistant to the Under Secretary for International Trade. Effective June 6, 2001.

Director of Scheduling to the Director, Office of External Affairs. Effective June 7, 2001.

Confidential Assistant to the Deputy Under Secretary for Technology. Effective July 6, 2001.

Special Assistant to the Director, Office of Policy and Strategic Planning. Effective July 6, 2001.

Special Assistant to the Chief of Staff. Effective July 31, 2001.

Department of Education

Confidential Assistant to the Director, Scheduling and Briefing Staff. Effective June 7, 2001.

Staff Assistant to the Director, Office of Public Affairs. Effective June 8, 2001.

Confidential Assistant to the Special Assistant (White House Liaison). Effective June 12, 2001.

Special Assistant to the Chief of Staff. Effective June 15, 2001.

Confidential Assistant to the Director, Office of Public Affairs. Effective June 20, 2001.

Deputy Assistant Secretary to the Assistant Secretary, Office of Legislation and Congressional Affairs. Effective June 25, 2001.

Special Assistant to the Deputy Assistant Secretary for Regional Services. Effective July 30, 2001.

Special Assistant to the Director, Faith Based and Community Initiatives Center. Effective July 30, 2001.

Confidential Assistant to the Deputy Assistant Secretary, Office of Legislative and Congressional Affairs. Effective July 30, 2001.

Department of Energy

Senior Advisor to the Secretary of Energy. Effective June 22, 2001.

Special Assistant to the Assistant Secretary for Congressional and Intergovernmental Affairs. Effective June 22, 2001.

Deputy Director, Scheduling and Advance to the Director, Office of Management and Administration. Effective June 22, 2001.

Special Assistant to the Director of Scheduling and Advance. Effective June 22, 2001.

Special Assistant to the Assistant Secretary for Environment, Safety and Health. Effective June 22, 2001.

Special Assistant to the Director, Office of Worker and Community Transition. Effective June 22, 2001.

Senior Policy Advisor to the Secretary of Energy. Effective July 2, 2001.

Special Assistant to the Assistant Secretary for Fossil Energy. Effective July 11, 2001.

Public Affairs Specialist to the Director, Office of Public Affairs. Effective July 31, 2001.

Department of Health and Human Services

Special Assistant to the Director, Office of Intergovernmental Affairs. Effective June 18, 2001.

Confidential Assistant (Scheduling) to the Director of Scheduling. Effective June 18, 2001.

Confidential Assistant to the Executive Secretary. Effective June 18, 2001.

Special Assistant to the Assistant Secretary for Planning and Education. Effective June 22, 2001.

Department of Housing and Urban Development

Advance Coordinator to the Director of Executive Scheduling. Effective June 25, 2001.

Department of the Interior

Special Assistant to the Assistant Secretary for Fish, Wildlife and Parks. Effective June 18, 2001.

Special Assistant to the Secretary for Alaska to the Chief of Staff. Effective June 18, 2001.

Special Assistant to the Director, Office of External Affairs. Effective June 19, 2001.

Special Assistant to the Director of Minerals Management Service. Effective June 19, 2001.

Special Assistant (Advance) to the Deputy Chief of Staff. Effective June 19, 2001.

Special Assistant to the Deputy Chief of Staff. Effective June 19, 2001.

Special Assistant to the Director, Intergovernmental Affairs. Effective June 19, 2001.

Special Assistant for Scheduling and Advance to the Deputy Chief of Staff. Effective June 19, 2001.

Associate Director for Senate Liaison to the Deputy Chief of Staff. Effective June 19, 2001.

Press Secretary to the Director of Communications. Effective June 22, 2001.

Special Assistant for Scheduling and Advance to the Deputy Chief of Staff. Effective June 25, 2001.

Special Assistant to the Director, Bureau of Land Management. Effective July 16, 2001.

Special Assistant to the Director, Bureau of Land Management. Effective July 16, 2001.

Special Assistant to the Deputy Secretary. Effective July 25, 2001.

Hispanic Media Outreach Coordinator to the Director, Office of Communications. Effective July 27, 2001.

Department of Justice

Attorney Advisor to the Assistant Attorney General, Office of Justice Programs. Effective June 6, 2001.

Assistant for Scheduling to the Attorney General. Effective June 7, 2001.

Policy Advisor to the Assistant Attorney General, Office of Policy Development. Effective June 12, 2001.

Assistant to the Attorney General. Effective June 26, 2001.

Special Assistant to the Assistant Attorney General, Criminal Division. Effective July 16, 2001.

Special Assistant to the Director, Office of Justice Assistance, Office of Justice Programs. Effective July 16, 2001.

Special Assistant to the Assistant Attorney General, Civil Rights Division. Effective July 16, 2001.

Deputy Director to the Director, Office of Public Affairs. Effective July 16, 2001.

Attorney Advisor to the Assistant Attorney General, Criminal Division. Effective July 19, 2001.

Department of Labor

Special Assistant to the Secretary of Labor. Effective June 5, 2001.

Deputy Director, Executive Secretariat to the Executive Secretary. Effective June 5, 2001.

Staff Assistant to the White House Liaison. Effective June 6, 2001.

Executive Assistant to the Director of Faith Based and Community Initiatives. Effective June 6, 2001.

Special Assistant to the Director of Scheduling. Effective June 7, 2001.

Confidential Assistant to the Executive Secretariat. Effective June 7, 2001.

Special Assistant to the Director of Faith Based and Community Initiatives. Effective June 7, 2001.

Research Assistant to the Assistant Secretary for Congressional and Intergovernmental Affairs. Effective June 7, 2001.

Research Assistant to the Assistant Secretary for Congressional and Intergovernmental Affairs. Effective June 7, 2001.

Director of Scheduling and Advance to the Secretary of Labor. Effective June 11, 2001.

Speech Writer to the Assistant Secretary for Public Affairs. Effective June 25, 2001.

Special Assistant for Scheduling to the Chief of Staff. Effective June 25, 2001.

Staff Assistant to the Secretary of Labor. Effective June 25, 2001.

Staff Assistant to the Secretary of Labor. Effective June 25, 2001.

Deputy Chief of Staff to the Chief of Staff. Effective June 25, 2001.

Special Assistant to the Deputy Secretary of Labor. Effective June 25, 2001.

Senior Legislative Officer to the Assistant Secretary for Congressional and Intergovernmental Affairs. Effective June 25, 2001.

Special Assistant to the Assistant Secretary for Public Affairs. Effective June 25, 2001.

Special Assistant to the Director of Scheduling and Advance. Effective June 25, 2001.

Special Assistant to the Director of Scheduling and Advance. Effective June 25, 2001.

Chief of Staff to the Assistant Secretary, Office of Congressional and Intergovernmental Affairs. Effective July 12, 2001.

Staff Assistant to the Deputy Assistant Secretary, Office of Labor-Management Standards. Effective July 19, 2001.

Special Assistant to the Assistant Secretary for Employment and Training. Effective July 31, 2001.

Staff Assistant to the Director of Scheduling. Effective July 31, 2001.

Special Assistant to the Director of 21st Century Office. Effective July 31, 2001.

Department of State

Special Assistant to the Deputy Secretary of State. Effective June 29, 2001.

Department of Transportation

Director for Scheduling and Advance to the Chief of Staff. Effective June 26, 2001.

Department of the Treasury

Director, Public Affairs to the Deputy Assistant Secretary (Public Affairs). Effective June 6, 2001.

Public Affairs Specialist to the Director, Public Affairs. Effective June 8, 2001.

Special Assistant to the Assistant Secretary, Legislative Affairs. Effective July 16, 2001.

Deputy to the Assistant Secretary, Legislative Affairs (International). Effective July 18, 2001.

Public Affairs Specialist to the Director, Public Affairs. Effective July 25, 2001.

Deputy Assistant Secretary for Legislative Affairs (Banking and Finance) to the Assistant Secretary (Legislative Affairs). Effective July 27, 2001.

Special Assistant to the Deputy Secretary. Effective July 27, 2001.

Special Assistant to the Assistant Secretary, (Legislative Affairs). Effective July 27, 2001.

Special Assistant to the Assistant Secretary (Legislative Affairs). Effective July 27, 2001.

Department of Veterans Affairs

Special Assistant to the Secretary of Veteran Affairs. Effective June 1, 2001.

Special Assistant to the Assistant Secretary for Congressional and Legislative Affairs. Effective June 1, 2001.

Special Assistant to the Dean, Veteran Affairs Learning University. Effective June 8, 2001.

Special Assistant (Fort Myers, FL) to the Special Assistant, Supervisory Regional Veterans Service Liaison Officer. Effective July 12, 2001.

Special Assistant (Providence, RI) to the Special Assistant, Supervisory Regional Veterans Service Liaison Officer. Effective July 12, 2001.

Special Assistant (Washington, DC) to the Special Assistant, Supervisor Regional Veterans Service Liaison Officer. Effective July 12, 2001.

Special Assistant, Supervisory Regional Veterans Service Liaison Officer to the Assistant Secretary for Public and Intergovernmental Affairs. Effective July 12, 2001.

Special Assistant (Des Moines, IA) to the Special Assistant, Supervisory Regional Veterans Service Liaison Officer. Effective July 16, 2001.

Special Assistant (San Diego, CA) to the Special Assistant, Supervisory Regional Veterans Service Liaison Officer. Effective July 16, 2001.

Federal Trade Commission

Director, Office of Public Affairs to the Chairman. Effective June 27, 2001.

Secretary to the Director, Bureau of Competition. Effective June 27, 2001.

General Services Administration

Senior Policy Advisor to the Administrator. Effective June 19, 2001.

Congressional Relations Officer to the Associate Administrator for Congressional and Intergovernmental Affairs. Effective June 26, 2001.

Confidential Assistant to the Administrator. Effective July 20, 2001.

Deputy Associate Administrator to the Associate Administrator for Congressional and Intergovernmental Affairs. Effective July 27, 2001.

National Aeronautics and Space Administration

Legislative Affairs Specialist to the Associate Administrator for Legislative Affairs. Effective July 23, 2001.

Occupational Safety and Health Review Commission

Confidential Assistant to a Member (Commissioner). Effective July 23, 2001.

Office of Management and Budget

Deputy to the Associate Director for Legislative Affairs (House). Effective June 22, 2001.

Executive Assistant to the Director, Office of Management and Budget. Effective June 22, 2001.

Confidential Assistant to the Executive Associate Director. Effective June 26, 2001.

Public Affairs Specialist to the Associate Director for Communications. Effective June 28, 2001.

Senior Advisor and Assistant General Council to the General Counsel. Effective July 31, 2001.

Confidential Assistant to the Associate Director for Legislative Affairs. Effective July 31, 2001.

Office of the United States Trade Representative

Director of Scheduling to the United States Trade Representative. Effective July 13, 2001.

Writer (Speechwriter) to the United States Trade Representative. Effective July 27, 2001.

United States Trade and Development Agency

Congressional Liaison Officer to the Director, Trade and Development Agency. Effective July 31, 2001.

Director of External Relations to the Director, Trade and Development Agency. Effective July 31, 2001.

Authority: 5 U.S.C. 3301 and 3302; E.O. 10577, 3 CFR 1954-1958 Comp., P. 218

Office of Personnel Management.
Kay Coles James,
Director.

[FR Doc. 01-23299 Filed 9-18-01; 8:45 am]

BILLING CODE 6325-38-P